DEPARTMENT OF ENERGY

Federal Energy Regulatory Commission

Combined Notice of Filings #1

Take notice that the Commission received the following electric corporate filings:

Docket Numbers: EC22-74-000.

Applicants: Wisconsin Power and Light Company, Wisconsin Public Service Corporation, Madison Gas and Electric Company.

Description: Wisconsin Public Service Corporation submits Supplement to Response to September 8, 2022, Deficiency Letter.

Filed Date: 10/11/22.

Accession Number: 20221011-5357.

Comment Date: 5 p.m. ET 12/8/22.

Take notice that the Commission received the following electric rate filings:

Docket Numbers: ER20-2878-016.

Applicants: Pacific Gas and Electric Company.

Description: Compliance filing: WDT Stipulation Compliance Filing to be effective 4/15/2021.

Filed Date: 12/5/22.

Accession Number: 20221205-5123.

Comment Date: 5 p.m. ET 12/27/22.

Docket Numbers: ER22-2933-001.

Applicants: Nevada Power Company, Sierra Pacific Power Company.

Description: Tariff Amendment: Nevada Power Company submits tariff filing per 35.17(b): Response to Deficiency Letter to be effective 12/1/2022.

Filed Date: 12/6/22.

Accession Number: 20221206-5078.

Comment Date: 5 p.m. ET 12/27/22.

Docket Numbers: ER23-52-001.

Applicants: Westlake Chemicals & Vinyls LLC.

Description: Tariff Amendment: Amendment to Notice of Succession in Docket ER23-52-000 to be effective 10/12/2022.

Filed Date: 12/6/22.

Accession Number: 20221206-5116.

Comment Date: 5 p.m. ET 12/27/22.

Docket Numbers: ER23-68-002.

Applicants: PJM Interconnection, L.L.C.

Description: Tariff Amendment: Revised ISA, SA No. 1949; Queue No. NQ16 (Amend) Correction to Filing to be effective 4/17/2008.

Filed Date: 12/6/22.

Accession Number: 20221206-5098.

Comment Date: 5 p.m. ET 12/27/22.

Docket Numbers: ER23-456-001.

Applicants: Public Service Company of Colorado.

Description: Tariff Amendment: 2022-12-06 WAPA 359 0.2.0 Amendment filing to be effective 12/28/2022.

Filed Date: 12/6/22.

Accession Number: 20221206-5046.

Comment Date: 5 p.m. ET 12/27/22.

Docket Numbers: ER23-563-000.

Applicants: PJM Interconnection, L.L.C.

Description: § 205(d) Rate Filing: Revisions to OA re: termination of Volunteer Energy Services, Inc. to be effective 2/4/2023.

Filed Date: 12/5/22.

Accession Number: 20221205-5122.

Comment Date: 5 p.m. ET 12/27/22.

Docket Numbers: ER23-565-000.

Applicants: Midcontinent Independent System Operator, Inc., Ameren Transmission Company of Illinois.

Description: § 205(d) Rate Filing: Midcontinent Independent System Operator, Inc. submits tariff filing per 35.13(a)(2)(iii: 2022-12-06_SA 3936, SA 3937 & SA 3938 ATXI-Sikeston Agreements to be effective 2/5/2023.

Filed Date: 12/6/22.

Accession Number: 20221206-5041.

Comment Date: 5 p.m. ET 12/27/22.

Docket Numbers: ER23-566-000.

Applicants: AEP Texas Inc.

Description: § 205(d) Rate Filing: AEPTX-Coleman County EC-Golden Spread EC 2nd A&R IA to be effective 11/17/2022.

Filed Date: 12/6/22.

Accession Number: 20221206-5109.

Comment Date: 5 p.m. ET 12/27/22.

Take notice that the Commission received the following electric securities filings:

Docket Numbers: ES23-2-000.

Applicants: Lucky Corridor, LLC.

Description: Amendment to Application Under Section 204 of the Federal Power Act for Authorization to Issue Securities of Lucky Corridor, LLC.

Filed Date: 11/29/22.

Accession Number: 20221129-5180.

Comment Date: 5 p.m. ET 12/20/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 6, 2022.
Kimberly D. Bose,
Secretary.

[FR Doc. 2022-26915 Filed 12-9-22; 8:45 am]

BILLING CODE 6717-01-P